DEPARTMENT OF THE INTERIOR

Fish and Wildlife Service

[FWS-R1-ES-2018-N101; FXES11130100000-189-FF01E00000]

Endangered and Threatened Wildlife and Plants; Draft Recovery Plan for the Streaked Horned Lark

AGENCY: Fish and Wildlife Service, Interior.

ACTION: Notice of document availability for review and public comment.

SUMMARY: We, the U.S. Fish and Wildlife Service (Service), announce the availability of the Draft Recovery Plan for the Streaked Horned Lark under the Endangered Species Act of 1973, as amended. The draft recovery plan includes specific goals, objectives, and criteria that should be met to remove the species from the Federal List of Endangered and Threatened Wildlife. We request review and comment on this draft recovery plan from Federal, State, and local agencies; Native American Tribes; and the public.

DATES: In order to be considered, comments on the draft recovery plan must be received on or before December 30, 2019.

ADDRESSES:

Document availability: An electronic copy of the draft recovery plan is available at http://www.fws.gov/endangered/species/recovery-plans.html and http://www.fws.gov/pacific/ecoservices/endangered/recovery/plans.html. Copies of the draft recovery plan are also available by request from the U.S. Fish and Wildlife Service, Oregon Fish and Wildlife Office, 2600 SE 98th Avenue, Suite 100, Portland, Oregon 97266; telephone (503) 231-6179.

Comment submission: If you want to comment, you may submit written comments by one of the following methods:

(1) You may submit written comments and materials via U.S. mail or hand-delivery to State Supervisor, Oregon Fish and Wildlife Office, at the above Portland address.

(2) You may fax comments to (503) 231-6195.

(3) You may send comments by email to fw1ofwo@fws.gov.

FOR FURTHER INFORMATION CONTACT: Paul Henson, State Supervisor, U.S. Fish and Wildlife Service, Oregon Fish and Wildlife Office, at the above Portland address; telephone (503) 231-6179. If you use a telecommunications device for the deaf, call the Federal Relay Service at 1-800-877-8339.

SUPPLEMENTARY INFORMATION:

Background

The streaked horned lark (Eremophila alpestris strigata) is a ground-nesting songbird occurring in open habitats of western Oregon and Washington. In October 2013, the streaked horned lark was listed as a threatened species pursuant to the Endangered Species Act of 1973, as amended (16 U.S.C. 1531 et seq.; Act) (78 FR 61451; October 3, 2013).

Recovery of endangered and threatened animals and plants is a primary goal of our endangered species program. To help guide the recovery effort, we prepare recovery plans for most listed species. Recovery plans describe actions considered necessary for conservation of the species, establish criteria for downlisting or delisting, and estimate time and cost for implementing recovery measures.

The Service has recently revised its approach to recovery planning, and is now using a new process termed Recovery Planning and Implementation (RPI) (see https://www.fws.gov/endangered/esa-library/pdf/RPI-Feb2017.pdf). The RPI approach is intended to reduce the time needed to develop and implement recovery plans, increase recovery plan relevancy over a longer timeframe, and add flexibility to recovery plans so they can be adjusted to new information or circumstances. Under RPI, a recovery plan includes the statutorily-required elements under section 4(f) of the Act (objective and measurable recovery criteria, site-specific management actions, and estimates of time and costs), along with a concise introduction and our strategy for how we plan to achieve species recovery. The RPI recovery plan is supported by two supplementary documents: A Species Status Assessment or Biological Report, which describes the best available scientific information related to the biological needs of the species and assessment of threats; and the Recovery Implementation Strategy, which details the particular near-term activities needed to implement the recovery actions identified in the recovery plan. Under this approach new information on species biology or details of recovery implementation may be incorporated by updating these supplementary documents without concurrent revision of the entire recovery plan, unless changes to statutorily required elements are necessary.

Recovery Plan Components

The Streaked Horned Lark Draft Recovery Plan is supported by the Streaked Horned Lark Biological Report and the Recovery Implementation Strategy, which are available at https://www.fws.gov/pacific/ecoservices/endangered/recovery/larkrecovery.html.

The primary recovery strategy for the streaked horned lark is to reduce or eliminate systemic threats to the species; reduce risk from random events and natural catastrophes; conserve genetic variability; and provide for long-term survival by protecting, managing, and restoring habitat and monitoring populations. We may initiate an assessment of whether recovery has been achieved and delisting is warranted when the recovery criteria have been met, including: A population of at least 5,725 individuals distributed across core sites and matrix lands in 3 occupied recovery zones; stable or increasing populations in each recovery zone; management plans implementing permanent or long-term conservation provisions at core sites with appropriate lark habitat characteristics in each recovery zone; and additional management of matrix lands sufficient to meet lark population targets.

Request for Public Comments

Section 4(f) of the Act requires us to provide public notice and an opportunity for public review and comment during recovery plan development. In an appendix to the approved final recovery plan, we will summarize and respond to the issues raised during public comment. Substantive comments may or may not result in changes to the recovery plan; comments regarding recovery plan implementation will be forwarded as appropriate to Federal or other entities so that they can be taken into account during the course of implementing recovery actions.

We request written comments on the draft recovery plan. We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act of 1973, as amended (16 U.S.C. 1531 et seq.).

Mary Abrams,
Acting Regional Director, U.S. Fish and Wildlife Service.

[FR Doc. 2019-23633 Filed 10-29-19; 8:45 am]

BILLING CODE 4333-15-P